DEPARTMENT OF ENERGY

Federal Energy Regulatory Commission

[Project No. 1508-000]

BOST2 Hydroelectric LLC; Notice of Preliminary Permit Application Accepted for Filing and Soliciting Comments, Motions To Intervene, and Competing Applications

On December 1, 2020, BOST2 Hydroelectric LLC filed an application for a preliminary permit, pursuant to section 4(f) of the Federal Power Act (FPA), proposing to study the feasibility of the Shawno County Pump Storage Project to be located near the Embarrass River and the Village of Tigerton, in Shawano County, Wisconsin. The sole purpose of a preliminary permit, if issued, is to grant the permit holder priority to file a license application during the permit term. A preliminary permit does not authorize the permit holder to perform any land-disturbing activities or otherwise enter upon lands or waters owned by others without the owners' express permission.

The proposed project would consist of the following: (1) A upper circular reservoir with a surface area of 120 acres at a maximum normal pool elevation of 967 feet to 1,017 feet mean sea level (msl); (2) a lower 115,000-foot-long reservoir consisting of eight concentric circular tunnels with varying diameters of approximately 5,400 feet to 4,200 feet at a maximum normal water surface elevation of 1,091 feet msl; (3) a 2,800-foot-long, 16-foot-diameter steel-lined penstock; (4) a 200-foot-long by 70-foot-wide by 130-foot-high powerhouse containing two 333-megawatt (MW) pump/turbines for a total project capacity of 666 MW; (5) a 240-foot-long by 50-foot-wide by 40-foot-high transformer gallery; (6) a 200-foot-long by 200-foot-wide substation; (7) a 200 to 500-foot-long 345-kilovolt transmission line; and (7) appurtenant facilities. The estimated annual generation of the Shawno Pump Storage Project would be 1,450 gigawatt-hours.

Applicant Contact: Mr. Douglas Spalding, c/o Nelson Energy, 8441 Wayzata Boulevard, Suite101, Golden Valley, MN 55426; phone: (952) 544-8133.

FERC Contact: Tyrone Williams; phone: (202) 502-6331.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15058-000.

More information about this project, including a copy of the application, can be viewed or printed on the “eLibrary” link of Commission's website at http://www.ferc.gov/docs-filing/elibrary.asp. Enter the docket number (P-15058) in the docket number field to access the document. For assistance, contact FERC Online Support.

Dated: February 12, 2021.
Kimberly D. Bose,
Secretary.

[FR Doc. 2021-03368 Filed 2-18-21; 8:45 am]

BILLING CODE 6717-01-P